DEPARTMENT OF LABOR

Employment and Training Administration

[NAFTA—7573]

Pass & Seymour/Legrand, Whitsett, NC; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2273), an investigation was initiated on September 24, 2002, in response to a petition filed by the company on behalf of workers at Pass & Seymour/Legrand, Whitsett, North Carolina.

The petitioner has requested that the petition be withdrawn. Consequently, further investigation in this case would serve no purpose, and the investigation has been terminated.

Signed at Washington, DC, this 10th day of October, 2002.
Elliott S. Kushner,
Certifying Officer, Division of Trade Adjustment Assistance.

[FR Doc. 02-28392 Filed 11-6-02; 8:45 am]

BILLING CODE 4510-30-P